DEPARTMENT OF STATE

[Public Notice: 10759]

Notice of Charter Renewal for the U.S. Advisory Commission on Public Diplomacy

SUMMARY: The official designation of this advisory committee is the United States Advisory Commission on Public Diplomacy.

The Commission was originally established under Section 604 of the United States Information and Educational Exchange Act of 1948, as amended, and under Section 8 of Reorganization Plan Number 2 of 1977. It was reauthorized pursuant to Section 702 of the Department of State Authorities Act, Fiscal Year 2017 (Pub. L. 114-323), which amended the Foreign Affairs Reform and Restructuring Act of 1998 (22 U.S.C. 6553) and re-authorized the Commission through September 30, 2020.

The U.S. Advisory Commission on Public Diplomacy appraises U.S. government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Charter renewal was filed on April 29, 2019.

For further information about the Commission, please contact John J. Daigle, the Commission's Designated Federal Officer, at DaigleJJ@state.gov.

John J. Daigle,
Designated Federal Official, Advisory Commission on Public Diplomacy, Department of State.

[FR Doc. 2019-09580 Filed 5-8-19; 8:45 am]

BILLING CODE 4710-45-P